AGENCY FOR INTERNATIONAL DEVELOPMENT

Board for International Food and Agricultural Development; Notice of Meeting

Pursuant to the Federal Advisory Committee Act, notice is hereby given of the public meeting of the Board for International Food and Agricultural Development (BIFAD). The meeting will be held from 8:30 a.m. to 12:25 p.m. EDT on Thursday, March 10, 2016 at the National Press Club, 529 14th Street NW., Washington, DC The meeting will be streamed live on the Internet. The link to the global live stream is on BIFAD's home page: http://www.usaid.gov/bifad.

The central theme of this public meeting will be University and CGIAR engagement in international agricultural research. Dr. Brady Deaton, BIFAD Chair, will preside over the public business meeting, which will begin promptly at 8:30 a.m. EDT with opening remarks. At this meeting, the Board will address old and new business and hear updates from USAID, the university community, and other experts on the Consultative Group for International Agricultural Research (CIGAR) and partner engagement in feeding the world's population.

Following new business, Chairman Deaton will introduce USAID Higher Education Coordinator Dr. Barbara Schneeman to give remarks. At 9:00 a.m. Dr. Beth Dunford, USAID/Bureau for Food Security Assistant to the Administrator and Deputy Coordinator for Development for Feed the Future, will provide an update to BIFAD and the public on Feed the Future, the U.S. Government's global hunger and food security initiative.

Starting at 9:15 a.m., BIFAD Board Member Cary Fowler will moderate a panel to inform BIFAD and the public on trends and issues around CGIAR engagement. Presenters for this panel are Dr. Robert Bertram, USAID/Bureau for Food Security; Dr. Juergen Voegele, The World Bank; Dr. Molly Jahn, CGIAR Board; Dr. Marianne Banziger, International Maize and Wheat Improvement Center (CIMMYT).

Starting at 10:45 a.m., Association for Public and Land-grant University (APLU) President, Dr. Peter McPherson, will moderate a panel on Feed the Future University engagement with the CGIAR. Presenters for this panel are Dr. Michael Clark, University of California, Davis (Feed the Future Innovation Lab for Assets and Markets Access); Dr. Vara Prasad, Kansas State University (Feed the Future Innovation Lab for Sustainable Intensification); Dr. Adegbola Adesogan, University of Florida (Feed the Future Innovation Lab for Livestock Systems); Susan Johnson, University of California, Davis (Borlaug LEAP Program).

At 12:00 p.m., Chairman Deaton will moderate a half-hour public comment period. At 12:25 p.m. EDT Dr. Deaton, will make closing remarks and adjourn the public meeting.

Those wishing to attend the meeting or obtain additional information about BIFAD should contact Susan Owens, Executive Director and Designated Federal Officer for BIFAD in the Bureau for Food Security at USAID. Interested persons may write to her in care of the U.S. Agency for International Development, Ronald Reagan Building, Bureau for Food Security, 1300 Pennsylvania Avenue NW., Room 2.09-067, Washington, DC, 20523-2110 or telephone her at (202) 712-0218.

Susan Owens,
Executive Director and USAID Designated Federal Officer for BIFAD, Bureau for Food Security, U.S. Agency for International Development.

[FR Doc. 2016-03862 Filed 2-23-16; 8:45 am]

BILLING CODE P